DEPARTMENT OF LABOR

Employment Standards Administration

Proposed Collection; Comment Request

ACTION: Notice.

SUMMARY: The Department of Labor (the Department), as part of its continuing effort to reduce paperwork and respondent burden, conducts a preclearance consultation program to provide the general public and Federal agencies with an opportunity to comment on proposed and/or continuing collections of information in accordance with the Paperwork Reduction Act of 1995 (PRA) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the Office of Federal Contract Compliance Programs' (OFCCP) proposed information collection entitled Equal Opportunity Survey (EO Survey). A copy of the proposed information collection request can be obtained by contacting the office listed below in the addresses section of this Notice.

DATES: Written comments must be submitted to the office listed in the addresses section below on or before March 31, 2003.

ADDRESSES: Ms. Hazel Bell, U.S. Department of Labor, 200 Constitution Ave., NW., Room S-3201, Washington, DC 20210, telephone (202) 693-0418 (voice) or (202) 693-1308 (TTY), fax (202) 693-1451, E-mail hbell@fenix2.dol-esa.gov. Please use only one method of transmission for comments (mail, fax, or E-mail).

SUPPLEMENTARY INFORMATION

I. Background

OFCCP's regulations at 41 CFR 60-2.18 authorize OFCCP to collect data through use of the EO Survey. The EO Survey requests data that can be derived from employment and other related records that contractors are required to collect and retain under OFCCP's regulations at 41 CFR 60-1.12. With these data, the EO Survey is intended to improve the selection of contractors for compliance evaluations, which the Department uses to determine compliance with non-discrimination and equal employment opportunity (EEO) regulations. OFCCP seeks to develop a selection tool that is able to identify those contractors that are more likely to be engaging in discriminatory employment practices. This revised selection tool would enable OFCCP to efficiently allocate its resources and avoid initiating evaluation of those employers who are in general compliance with EEO guidelines, thereby reducing the burden on them, and efficiently spending tax-payer dollars. Time constraints and a number of data problems affected an earlier pilot study of the EO Survey data in such a way so as not to be able to assess the Survey's predictive power. To perform a study that is not limited by these obstacles, OFCCP has engaged an outside contractor to study the Survey data. The contractor will assess data from the EO Survey submissions as part of its study. It is anticipated that the study will not be completed until 2004.

The current PRA authorization for the EO Survey is scheduled to expire on March 31, 2003. Accordingly, OFCCP requests a two-year extension of PRA authorization for the EO Survey, involving 10,000 EO Surveys per year. The two-year extension will permit OFCCP to complete the ongoing study of the EO Survey. Ten-thousand Surveys is the number the outside contractor needs to assess the Survey's reliability for finding employers that discriminate against their employees.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department seeks the extension of approval to collect this information to complete a study of the EO Survey as a tool to identify those contractors that are more likely to be engaging in discriminatory employment practices. The Survey could enable OFCCP to efficiently allocate its resources to avoid initiating evaluation of those employers who are in general compliance with EEO guidelines, thereby reducing the burden on them and efficiently spending tax-payer dollars. The OFCCP seeks a two-year extension to the approval of the Equal Opportunity Survey. There is no change in the substance or method of collection since the last OMB approval.

Type of Review: Extension.

Agency: Employment Standards Administration.

Title: Equal Opportunity Survey.

OMB Number: 1215-0196.

Affected Public: Business or other for-profit; Not-for-profit institutions.

Total Respondents/Responses: 10,000.

Frequency: Annually.

Average Burden per Response: 21 hours.

Estimated Total Burden Hours: 210,000.

Total Burden Cost (capital/startup): $0.

Total Burden Cost (operating/maintenance): $30,000.

Comments submitted in response to this notice will be summarized and/or included in the request for Office of Management and Budget approval of the information collection request; comments will also become a matter of public record.

Dated: January 28, 2003.
Bruce Bohanon,
Chief, Branch of Management Review and Internal Control, Division of Financial Management, Office of Management, Administration and Planning, Employment Standards Administration.

[FR Doc. 03-2283 Filed 1-29-03; 8:45 am]

BILLING CODE 4510-CM-P